DEPARTMENT OF ENERGY

Federal Energy Regulatory Commission

[Docket No. RM21-17-000]

Building for the Future Through Electric Regional Transmission Planning and Cost Allocation and Generator Interconnection; Notice of Technical Conference

The Federal Energy Regulatory Commission (Commission) will convene a staff-led technical conference regarding regional transmission planning in the above-referenced proceeding on Monday, November 15, 2021, from approximately 9:00 a.m. to 5:00 p.m. Eastern Time. The technical conference will seek to examine in detail issues and potential reforms related to regional transmission planning as described in the July 15, 2021 Advanced Notice of Proposed Rulemaking in this proceeding.¹ Specifically, the technical conference will examine issues related to incorporating sufficiently long-term and comprehensive forecasts of future transmission needs during regional transmission planning processes, including considering the needs of anticipated future generation in identifying needed transmission facilities. This may include: approaches to planning regional transmission facilities that identify transmission needs for anticipated future generation, e.g., use in regional transmission planning of future scenarios or geographic zones where future generation is anticipated to locate; factors shaping future transmission needs that are appropriate to consider as inputs into transmission planning studies; and evaluation criteria used by the transmission planning regions to identify and select the more efficient or cost-effective regional transmission facilities.

¹ Building for the Future Through Electric Regional Transmission Planning and Cost Allocation and Generator Interconnection, 176 FERC ¶ 61,024 (2021).

The conference will be held remotely. The Commission will issue a supplemental notice providing the agenda for the technical conference.

Individuals interested in participating as panelists should submit a self-nomination email by 5:00 p.m. Eastern Time on September 30, 2021, to Timothy.Bialecki@ferc.gov. Each nomination should state the proposed panelist's name, contact information, organizational affiliation, and what topics the proposed panelist would speak on.

The conference will be open for the public to attend remotely. There is no fee for attendance. Information on this event will be posted on the Calendar of Events on the Commission's website, www.ferc.gov, prior to the event.

The conference will be transcribed. Transcripts will be available for a fee from Ace Reporting at (202) 347-3700.

Commission conferences are accessible under section 508 of the Rehabilitation Act of 1973. For accessibility accommodations, please send an email to accessibility@ferc.gov or call toll free (866) 208-3372 (voice) or (202) 208-8659 (TTY), or send a fax to (202) 208-2106 with the required accommodations.

For more information about this technical conference, please contact David Tobenkin at David.Tobenkin@ferc.gov or (202) 502-6445. For legal information, please contact Lina Naik at Lina.Naik@ferc.gov or (202) 502-8882. For information related to logistics, please contact Sarah McKinley at Sarah.McKinley@ferc.gov or (202) 502-8368.

Dated: September 16, 2021.
Kimberly D. Bose,
Secretary.

[FR Doc. 2021-20489 Filed 9-21-21; 8:45 am]

BILLING CODE 6717-01-P